NATIONAL AERONAUTICS AND SPACE ADMINISTRATION

[Notice (20-100)]

NASA Advisory Council; Human Exploration and Operations Committee Meeting, Including Joint Meeting With Science Committee

AGENCY: National Aeronautics and Space Administration.

ACTION: Notice of meeting.

SUMMARY: In accordance with the Federal Advisory Committee Act, the National Aeronautics and Space Administration (NASA) announces a meeting of the NASA Advisory Council (NAC) Human Exploration and Operations Committee. This meeting will include a joint meeting with the NAC Science Committee. These committees report to the NAC.

DATES: Wednesday, January 13, 2021, 11:30 a.m. to 2:30 p.m., Eastern Time; and Thursday, January 14, 2021, 1:00 p.m. to 5:15 p.m., Eastern Time.

ADDRESSES: Meeting will be virtual only. See dial-in and Webex information below under Supplementary Information.

FOR FURTHER INFORMATION CONTACT: Dr. Bette Siegel, Designated Federal Officer, Human Exploration and Operations Mission Directorate, NASA Headquarters, Washington, DC 20546, via email at bette.siegel@nasa.gov or 202-358-2245.

SUPPLEMENTARY INFORMATION: As noted above, this meeting will be open to the public telephonically and by Webex. Webex connectivity information is provided below. For audio, when joining the Webex event, you may use your computer or provide your phone number to receive a call back, otherwise, call the U.S. toll conference number listed. The Webex event address for January 13, 2021, is https://nasaenterprise.webex.com/nasaenterprise/onstage/g.php?MTID=ef268da6a9daa9bd59ba35b80dd54bd65. The event number is 199 568 2184, and the event password is 7mP6pAJvW@7. If needed, the U.S. toll conference number is 1-415-527-5035, the global call-in number is https://nasaenterprise.webex.com/nasaenterprise/globalcallin.php?MTID=e2674fb32caeca0bff43bda0b1cae7208, and the access code is 199 568 2184.

The Webex event address for January 14, 2021, is https://nasaenterprise.webex.com/nasaenterprise/onstage/g.php?MTID=e6a0f7dd70d769cb581af3a729d8e4e85. The event number is 199 200 6220 and the event password is YmpNdfH*926.

If needed, the U.S. toll conference number is 1-415-527-5035, the global call-in number is https://nasaenterprise.webex.com/nasaenterprise/globalcallin.php?MTID=ef59221cc82e122a9c22f81cede9fc9b9, and the access code is 199 200 6220.

The agenda for the meeting includes the following topics:

—Artemis Overview

—International Space Station

—Commercial Space

—Space Communications and Navigation

—Artemis Lunar Exploration and Science Planning by NASA's Human Exploration and Operations Mission Directorate (HEOMD) and Science Mission Directorate (SMD)

It is imperative that this meeting be held on this day to accommodate the scheduling priorities of the key participants

Patricia Rausch,
Advisory Committee Management Officer, National Aeronautics and Space Administration.

[FR Doc. 2020-28488 Filed 12-23-20; 8:45 am]

BILLING CODE P